FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier and Ocean Freight Forwarder Transportation Intermediary Applicants

InterChez Global Services, Inc., 3924 Clock Pointe Trail, Suite 101, Stow, OH 44224; Officer: Melissa F. Lines, Vice President, (Qualifying Individual).

Morrison Express Corporation (USA), 2000 Hughes Way, El Segundo, CA 90248; Officer: Douglas E. Haring, Vice President, (Qualifying Individual).

Dated: November 14, 2008.
Karen V. Gregory,
Secretary.

[FR Doc. E8-27499 Filed 11-18-08; 8:45 am]

BILLING CODE 6730-01-P